DEPARTMENT OF THE TREASURY

Government Securities: Call for Large Position Reports

AGENCY: Department of the Treasury.

ACTION: Notice of call for Large Position Reports.

SUMMARY: The U.S. Department of the Treasury (Treasury) called for the submission of Large Position Reports by entities whose positions in the 4⅝% Treasury Bonds of February 2055 equaled or exceeded $6.9 billion as of Monday, June 2, 2025.

DATES: Reports must be received by 12:00 p.m. Eastern Time on Monday, September 15, 2025.

ADDRESSES: All entities are encouraged to submit reports using Treasury's webform (available at https://www.treasurydirect.gov/laws-and-regulations/gsa/lpr-form/). Reports may also be faxed to Treasury at (202) 504-3788 if a reporting entity has difficulty using the webform.

FOR FURTHER INFORMATION CONTACT: Lori Santamorena, Kevin Hawkins, John Garrison, or Luisa Jou-Penchev, Government Securities Regulations Staff, Department of the Treasury, at 202-504-3632 or govsecreg@fiscal.treasury.gov.

SUPPLEMENTARY INFORMATION: In a public announcement issued on September 9, 2025, Treasury called for Large Position Reports from entities whose positions in the 4⅝% Treasury Bonds of February 2055 (CUSIP 912810UG1) equaled or exceeded $6.9 billion as of Monday, June 2, 2025. Entities with positions in this Treasury Bond below the reporting threshold as of the reporting date are not required to submit Large Position Reports.

This call for Large Position Reports is pursuant to Treasury's large position reporting rules (17 CFR part 420) under the Government Securities Act, as amended (see 15 U.S.C. 78o-5(f)). Reports must be received by Treasury before 12:00 p.m. Eastern Time on Monday, September 15, 2025, and must include the required positions and administrative information.

The 4⅝% Treasury Bonds of February 2055 have a CUSIP number of 912810UG1, a STRIPS principal component CUSIP number of 912803HH9, and a maturity date of February 15, 2055.

The public announcement, a sample Large Position Report (which appears in Appendix B of the large position reporting rules at 17 CFR part 420), supplementary formula guidance, and a series of training modules are available at https://www.treasurydirect.gov/laws-and-regulations/gsa/lpr-reports/.

The collection of large position information has been approved by the Office of Management and Budget pursuant to the Paperwork Reduction Act under OMB Control Number 1530-0064.

Brian Smith,
Deputy Assistant Secretary for Federal Finance.

[FR Doc. 2025-17558 Filed 9-10-25; 8:45 am]

BILLING CODE 4810-AK-P